DEPARTMENT OF COMMERCE

National Telecommunications and Information Administration

Innovation Fund Advisory Committee

AGENCY: National Telecommunications and Information Administration, U.S. Department of Commerce.

ACTION: Notice; reopening of application window for advisory committee nominations.

SUMMARY: On November 15, 2024, the National Telecommunications and Information Administration (NTIA) published a notice seeking applications from persons interested in serving on the Public Wireless Supply Chain Innovation Fund Advisory Committee (hereinafter “the IFAC” or “the Committee”) for a two-year term. The notice established a deadline of December 16, 2024, for the transmittal of applications. This notice reopens the application window until January 15, 2025.

DATES: The application window for the notice published November 15, 2024 at 89 FR 90267 is reopened. To be considered for calendar year 2025 appointments, applications must be postmarked or electronically transmitted on or before January 15, 2025.

ADDRESSES: Persons may submit applications to Richard Upchurch, Designated Federal Officer, by email to IFAC@ntia.gov or by U.S. mail or commercial delivery service to Office of Public Safety Communications, National Telecommunications and Information Administration, 1401 Constitution Ave. NW, Room 73022, Washington, DC 20230.

FOR FURTHER INFORMATION CONTACT: Richard Upchurch, Designated Federal Officer, at (202) 617-6592 or rupchurch@ntia.gov. Please direct media inquiries to NTIA's Office of Public Affairs at (202) 482-7002 or press@ntia.gov.

SUPPLEMENTARY INFORMATION: On November 15, 2024, NTIA published a Notice in the Federal Register seeking applications from persons interested in serving on the IFAC. See Innovation Fund Advisory Committee; Call for applications to serve on the Innovation Fund Advisory Committee, 89 FR 90267 (Nov. 15, 2024), available at https://www.federalregister.gov/documents/2024/11/15/2024-26635/innovation-fund-advisory-committee. The Notice established a deadline of December 16, 2024, for the transmittal of applications. Through this Notice, NTIA is reopening the application window until January 15, 2025 to ensure that all interested parties have an opportunity to submit applications.

Persons interested in applying to serve on the IFAC are reminded that members may not apply for Innovation Fund grants, hold a financial interest in applicants, or be employed by applicants of the Innovation Fund grant program during their tenure on the IFAC. As such, individuals with or affiliated with an outstanding application to the Innovation Fund's third Notice of Funding Opportunity (NOFO 3), released on December 17, 2024, will not be appointed if their application is pending at the time of appointment. Appointments are expected to occur after the NOFO 3 application deadline.

Likewise, IFAC members and their affiliated organizations will not be permitted to apply to any ongoing or future funding opportunities during their service on the committee. However, individuals who are current recipients of an Innovation Fund grant, employed by a grant recipient, or hold a financial interest in a recipient of an Innovation Fund grant are eligible to apply for IFAC membership and serve on the committee, provided no new grant applications are submitted during their tenure.

Dated: December 20, 2024.
Stephanie Weiner,
Chief Counsel, National Telecommunications and Information Administration.

[FR Doc. 2024-31236 Filed 12-27-24; 8:45 am]

BILLING CODE 3510-60-P